DEPARTMENT OF TRANSPORTATION

Pipeline and Hazardous Materials Safety Administration

[Docket No. PHMSA-2013-0029]

Pipeline Safety: Public Forum State One-Call Exemptions

AGENCY: Office of Pipeline Safety, Pipeline and Hazardous Materials Safety Administration, DOT.

ACTION: Notice; public forum.

SUMMARY: The Pipeline and Hazardous Materials Safety Administration will sponsor a public forum on state one-call exemptions. The forum will be held on March 14, 2013, in West Palm Beach, Florida at the Palm Beach County Convention Center. At the forum, PHMSA will discuss the requirements of the Pipeline Safety, Regulatory Certainty and Job Creation Act of 2011 relating to exemptions in state one-call programs and actions taken to date. In addition, damage prevention stakeholders will discuss existing data relating to this topic and present perspectives during panel discussions.

DATES: The public forum will be held on Thursday, March 14, 2013, from 9:30 a.m. to 5:30 p.m. EST. Name badge pickup and onsite registration will be available starting at 8:30 a.m. Refer to the forum Web site for the agenda and times at: http://primis.phmsa.dot.gov/meetings/MtgHome.mtg?mtg=85. Please note that the public forum will be webcast live and presentations will be available on the forum Web site within 30 days following the public forum.

ADDRESSES: The forum is open to all. There is no cost to attend. The forum will be held at the Palm Beach County Convention Center, 650 Okeechobee Boulevard, West Palm Beach, Florida, 33401. PHMSA is holding the forum at this location because it is the same location where the Common Ground Alliance (CGA) 811 Excavation Safety Conference & Expo will be held March 11-14, 2013, and many of the likely attendees for the PHMSA Forum will participate in the CGA Excavation Safety Conference. Attendees can make hotel arrangements for the PHMSA Forum under the CGA room block at a rate of $199.00 per night. Further details can be found at http://www.cgaconference.com.

Registration: To help assure that adequate space is provided, all attendees are encouraged to register for the workshop at http://primis.phmsa.dot.gov/meetings/MtgHome.mtg?mtg=85.

Comments: Members of the public may also submit written comments, either before or after the workshop. Comments should reference Docket No. PHMSA-2013-0029. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue SE., Room W12-140, Washington, DC 20590.

• Hand Delivery: DOT Docket Management System, Room W12-140, on the ground floor of the West Building, 1200 New Jersey Avenue SE., Washington, DC between 9 a.m. and 5 p.m., Monday through Friday, except Federal holidays.

Instructions: Identify the Docket No. at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Annmarie Robertson at 317-253-1622, or by email at annmarie.robertson@dot.gov by March 4, 2013.

FOR FURTHER INFORMATION CONTACT: Annmarie Robertson, Office of Pipeline Safety, at 317-253-1622 or email at annmarie.robertson@dot.gov, regarding the subject matter of this notice.

SUPPLEMENTARY INFORMATION: Section 3 of the Pipeline Safety, Regulatory Certainty and Job Creation Act of 2011 (Pub. L. 112-90) requires that PHMSA address exemptions in state one-call laws in two ways: As a factor in determining eligibility for certain grants, and in a requirement to prepare a state-by-state exemption study. With respect to grant eligibility, in order to qualify for a state one-call grant under 49 U.S.C. 6106, a state may not provide any exemptions to municipalities, state agencies, or their contractors from the one-call notification system requirements of the program. This amendment takes effect 1/3/2014.

With respect to the study on the impact of exemptions on pipeline safety, Section 3(d) states:

(1) Study.—The Secretary of Transportation shall conduct a study on the impact of excavation damage on pipeline safety.

(2) Contents.—The study shall include—

(A) an analysis of the frequency and severity of different types of excavation damage incidents;

(B) an analysis of exemptions to the one-call notification system requirements in each State;

(C) a comparison of exemptions to the one-call notification system requirements in each State to the types of excavation damage incidents in that State; and

(D) an analysis of the potential safety benefits and adverse consequences of eliminating all exemptions for mechanized excavation from State one-call notification systems.

(3) Report.—Not later than 2 years after the date of enactment of this Act, the Secretary shall submit to the Committee on Transportation and Infrastructure and the Committee on Energy and Commerce of the House of Representatives and the Committee on Commerce, Science, and Transportation of the Senate a report on the results of the study.

PHMSA has conducted a preliminary analysis of the exemptions found in state one-call laws and regulations. PHMSA is in the process of developing a plan for addressing grant eligibility in accordance with the law and will continue to work with stakeholders concerning this requirement. This public forum will allow PHMSA, state pipeline safety representatives, excavators, pipeline operators, one-call centers, the public, facility locators, and stakeholders often affected by one-call exemptions such as railroads, local government and the farming community to share data and observations resulting from one-call exemptions and the impact of removing such exemptions. This input will facilitate PHMSA's ability to complete the study required in Section 3 of the law.

Participants of the public forum will benefit from: (1) Understanding the issue and the current status of states with regard to exemptions in one-call laws; (2) understanding the issues concerning the availability of data to support or challenge existing exemptions; and (3) listening to panelists present perspectives, both positive and negative, on the existence of exemptions in state one-call laws.

Interested persons may obtain more information on damage prevention at: http://primis.phmsa.dot.gov/comm/DamagePrevention.htm.

Issued in Washington, DC, on February 8, 2013.
Linda Daugherty,
Deputy Associate Administrator for Policy and Programs.

[FR Doc. 2013-03369 Filed 2-13-13; 8:45 am]

BILLING CODE 4910-60-P